SMALL BUSINESS ADMINISTRATION

[Disaster Declaration #14936 and #14937]

Florida Disaster Number FL-00120

AGENCY: U.S. Small Business Administration.

ACTION: Amendment 4.

SUMMARY: This is an amendment of the Presidential declaration of a major disaster for Public Assistance Only for the State of Florida (FEMA-4283-DR), dated 10/24/2016.

Incident: Hurricane Matthew.

Incident Period: 10/03/2016 through 10/19/2016.

DATES:

Effective Date: 11/04/2016.

Physical Loan Application Deadline Date: 12/23/2016.

Economic Injury (EIDL) Loan Application Deadline Date: 07/24/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of FLORIDA, dated 10/24/2016, is hereby amended to include the following areas as adversely affected by the disaster.

Primary Counties: Broward, Orange, Osceola

All other information in the original declaration remains unchanged.

(Catalog of Federal Domestic Assistance Number 59008)

James E. Rivera,
Associate Administrator for Disaster Assistance.

[FR Doc. 2016-27232 Filed 11-10-16; 8:45 am]

BILLING CODE 8025-01-P